DEPARTMENT OF TRANSPORTATION

Federal Aviation Administration

[FAA-2021-0012]

Agency Information Collection Activities: Requests for Comments; Clearance of Renewed Approval of Information Collection: Reduced Vertical Separation Minimum

AGENCY: Federal Aviation Administration (FAA), Transportation (DOT).

ACTION: Notice and request for comments.

SUMMARY: In accordance with the Paperwork Reduction Act of 1995, FAA invites public comments about our intention to request the Office of Management and Budget (OMB) approval to renew information collection. The Federal Register Notice with a 60-day comment period soliciting comments on the following collection of information was published on January 15, 2021. Aircraft Operators seeking specific operational approval to conduct Reduced Vertical Separation Minimum (RVSM) operations must submit application to the FAA for RVSM specific approval. Specific approval is required when aircraft operators intend to operate outside the United States (U.S.) or their aircraft are not equipped with Automatic Dependent Surveillance—Broadcast (ADS-B) Out.

DATES: Written comments should be submitted by September 7, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Madison Walton, (FAA), Flight Technologies and Procedures Division by email at: Madison.Walton@faa.gov; phone: 202-267-8850.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0679.

Title: Reduced Vertical Separation Minimum.

Form Numbers: N/A.

Type of Review: Renewal.

Background: The Federal Register Notice with a 60-day comment period soliciting comments on the following collection of information was published on January 15, 2021 (86 FR 4172). The authority to collect data from aircraft operators seeking operational approval to conduct Reduced Vertical Separation Minimum (RVSM) operations is contained in Part 91, Section 91.180, as established by a final rule published in the Federal Register on October 27, 2003 (68 FR 61304) and in Part 91, Section 91.706, as established by a final rule published April 9, 1997 (62 FR 17487, Apr 9, 1997). Aircraft operators seeking specific operational approval to conduct RVSM operations outside the U.S. must submit their application to the responsible Flight Standards office. The responsible Flight Standards office registers RVSM approved airframes in the FAA RVSM Approvals Database to track the approval status for operator airframes. Application information includes evidence of aircraft equipment and RVSM qualification information along with operational training and program elements.

Respondents: Operators are required to submit application for RVSM specific approval if they desire to operate in RVSM airspace outside the U.S. or if they do not meet the provisions of Title 14 of the Code of Federal Regulations (14 CFR), Part 91, Appendix G, Section 9—Aircraft Equipped with Automatic Dependent Surveillance—Broadcast Out. The FAA estimates processing 856 initial applications annually and 1,998 annual updates to existing approvals.

Frequency: An Operator must make application for initial specific approval to operate in RVSM airspace, or whenever requesting an update to an existing approval.

Estimated Average Burden per Response: 4.00 hours for updates to existing applications and 6.8 hours for application of initial approvals.

Estimated Total Annual Burden: 13,813 hours [(1,998 × 4.00) + (856 × 6.8)]

Issued in District of Columbia, on August 03, 2021.
Herbert Madison Walton, Jr.,
Aviation Safety Inspector, FAA Flight Technologies & Procedures Division.

[FR Doc. 2021-16801 Filed 8-5-21; 8:45 am]

BILLING CODE 4910-13-P